DEPARTMENT OF ENERGY

Bonneville Power Administration

Agency Information Collection Activities: Proposed Collection; Comment Request; Landowner Release for Poles Removed From BPA Transmission System

AGENCY: Bonneville Power Administration (BPA), Department of Energy.

ACTION: Proposed information collection and request for comments.

SUMMARY: BPA is seeking comments on a proposed submission to the Office of Management and Budget (OMB) for clearance of a collection of information under the Paperwork Reduction Act of 1995. BPA collects information from landowners or other members of the public who accept treated wood utility transmission poles. These poles are removed from the transmission system when they are no longer of use to BPA. The information collected will document and facilitate transfer of the poles, which minimizes BPA's environmental liability. At the time of information collection, BPA also provides the recipients with consumer information regarding treated wood and use restrictions required by the U.S. Environmental Protection Agency (EPA).

DATES: Comments must be received on or before August 24, 2015.

ADDRESSES: Written comments may be submitted by mail to Christopher M. Frost, CGC-7, Bonneville Power Administration, 905 NE. 11th Avenue, Portland, Oregon 97232, or by email at IGLM@bpa.gov.

FOR FURTHER INFORMATION CONTACT: Additional information may be requested from Christopher M. Frost at the mailing address above or by email at IGLM@bpa.gov.

SUPPLEMENTARY INFORMATION:

I. Abstract

A recent internal audit of PRA compliance determined that this existing collection does not have an OMB number. BPA collects information from landowners or other members of the public who accept treated wood utility transmission poles. These poles are removed from the transmission system when they are no longer of use to BPA. The information collected will document and facilitate transfer of the poles, which minimizes BPA's environmental liability. At the time of information collection, BPA also provides the recipients with consumer information regarding treated wood and use restrictions required by the U.S. Environmental Protection Agency (EPA). The relevant form, Form BPA F 4300.07d, collects the following information: Intended use for poles (fence post, retaining wall, or landscaping), acknowledgement of receipt of consumer information sheet, acknowledgement of use limitations, acknowledgement of wood treatment type (creosote, pentachlorophenol, copper napthanate, or other as specified), and name and contact information. No third party notification or public disclosure burden is associated with this collection.

II. Request for Comments

BPA requests that you send your comments to the location listed in the ADDRESSES section above. Your comments should address:

(a) The necessity of the information collection for the proper performance of BPA's functions, including whether the information will have practical utility;

(b) The accuracy of our estimate of the burden (hours and costs) of the collection of information;

(c) Ways we could enhance the quality, utility, and clarity of the information to be collected; and

(d) Ways we could minimize the burden of the collection of information, such as through the use of automated collection techniques or other forms of information technology.

An agency may not conduct or sponsor, and a person is not required to respond to, a collection of information unless it displays a currently valid Office of Management and Budget control number. Comments may be made available to the public, including your address, phone number, and email address. You may request that we withhold your personally identifiable information, but we cannot guarantee that we will be able to do so.

III. Data

OMB Control Number: New.

Information Collection Request Title: Landowner Release for Poles Removed from BPA Transmission System.

Type of Request: New.

Respondents: Landowners and other members of the public accepting poles.

Annual Estimated Number of Respondents: 120-150.

Annual Estimated Number of Total Responses: 120-150.

Average Minutes per Response: 5.

Annual Estimated Number of Burden Hours: 12.5.

Annual Estimated Reporting and Recordkeeping Cost Burden: $0.

Issued in Portland, Oregon, on June 12, 2015.
Christopher M. Frost,
Agency Records Officer, FOIA/Privacy Officer, Governance and Internal Controls.

[FR Doc. 2015-15377 Filed 6-22-15; 8:45 am]

BILLING CODE 6450-01-P